SECURITIES AND EXCHANGE COMMISSION

[File No. 500-1]

In the Matter of Investco, Inc.; Order of Suspension of Trading

April 29, 2002.

It appears to the Securities and Exchange Commission that there is a lack of current and accurate information concerning the securities of Investco, Inc. (“Investco”) because of questions regarding the accuracy of assertions by Investco, and by others, in press releases to investors concerning, among other things: (1) The company's assets, (2) the company's business combinations, (3) the company's current financial condition, and (4) a tender offer for Investco's outstanding shares.

The Commission is of the opinion that the public interest and the protection of investors require a suspension of trading in the securities of the above listed company.

Therefore, it is ordered, pursuant to section 12(k) of the Securities Exchange Act of 1934, that trading in the above listed company is suspended for the period from 9:30 a.m. EDT, April 29, 2002 through 11:59 p.m. EDT, on May 10, 2002.

By the Commission.
Margaret H. McFarland,
Deputy Secretary.

[FR Doc. 02-10960 Filed 4-29-02; 4:48 pm]

BILLING CODE 8010-01-P